DEPARTMENT OF LABOR

Employment and Training Administration

Workforce Investment Act of 1998 (WIA); Notice of Incentive Funding Availability for Program Year (PY) 2004 Performance

AGENCY: Employment and Training Administration, Labor.

ACTION: Notice.

SUMMARY: The Department of Labor, in collaboration with the Department of Education, announces that 23 States are eligible to apply for Workforce Investment Act (WIA) (Pub. L. 105-220, 29 U.S.C. 2801 et seq.) incentive awards under the WIA Regulations.

DATES: The 23 eligible States must submit their applications for incentive funding to the Department of Labor by June 12, 2006.

ADDRESSES: Submit applications to the Employment and Training Administration, Office of Performance and Technology, 200 Constitution Avenue, NW., Room S-5206, Washington, DC 20210, Attention: Karen A. Staha, 202-693-3031 (phone), 202-693-3490 (fax), e-mail: staha.karen@dol.gov. Please be advised that mail delivery in the Washington, DC area has been inconsistent because of concerns about anthrax contamination, and the resulting treatment of incoming mail. States are encouraged to submit applications via e-mail.

FOR FURTHER INFORMATION CONTACT: The Office of Performance and Technology: Karen A. Staha (phone: 202-693-3031 or e-mail: staha.karen@dol.gov) or Traci DiMartini (phone: 202-693-3698 or e-mail: dimartini.traci@dol.gov). (This is not a toll-free number.) Information may also be found at the Web site: http://www.doleta.gov/performance.

SUPPLEMENTARY INFORMATION: Twenty-three (23) States (see Appendix) have qualified to receive a share of the $16.5 million available for incentive grant awards under WIA section 503. These funds, which were contributed by the Department of Education from appropriations for the Adult Education and Family Literacy Act and the Carl D. Perkins Vocational and Technical Education Act, are available for the eligible States to use through June 30, 2008, to support innovative workforce development and education activities that are authorized under title I (Workforce Investment Systems) or title II (the Adult Education and Family Literacy Act (AEFLA)) of WIA, or under the Perkins Act (Pub. L. 105-332, 20 U.S.C. 2301 et seq.). In order to qualify for a grant award, a state must have exceeded performance levels, agreed to by the Secretaries, Governor, and State Education Officer, for outcomes in WIA title I, adult education (AEFLA), and vocational education (Perkins Act) programs. The goals included placement after training, retention in employment, and improvement in literacy levels, among other measures. After review of the performance data submitted by States to the Department of Labor and to the Department of Education, each Department determined which States would qualify for incentives for its program(s). (The Appendix at the bottom of this notice details the eligibility of each state by program.) These lists of eligible States were compared, and States that qualified under all three programs are eligible to apply for and receive an incentive grant award. The amount that each state is eligible to receive was determined by the Department of Labor and the Department of Education and is based on WIA section 503(c) (20 U.S.C. 9273(c)), and is proportional to the total funding received by these States for the three Acts.

The States eligible to apply for incentive grant awards, and the amounts they are eligible to receive, are listed below:

State | Amount of award
1. Arizona | $709,618
2. Colorado | 680,253
3. Connecticut | 673,907
4. Delaware | 646,569
5. Georgia | 762,930
6. Illinois | 941,250
7. Indiana | 717,986
8. Iowa | 665,157
9. Kentucky | 716,581
10. Maryland | 711,961
11. Massachusetts | 712,003
12. Michigan | 817,852
13. Minnesota | 699,205
14. Nebraska | 651,792
15. Nevada | 661,574
16. North Dakota | 644,150
17. Oklahoma | 688,143
18. Oregon | 714,422
19. Pennsylvania | 853,980
20. South Carolina | 709,298
21. Tennessee | 740,699
22. West Virginia | 685,054
23. Wisconsin | 713,988

These eligible states must submit their applications for incentive funding to the Department of Labor by June 12, 2006. As set forth in the provisions of WIA section 503(b)(2) (20 U.S.C. 9273(b)(2)), 20 CFR 666.220(b) and Training and Employment Guidance Letter (TEGL) No. 20-01, Change 4, Application Process for Workforce Investment Act (WIA) Section 503 Incentive Grants, Program Year 2004 Performance, which is available at http://www.doleta.gov/performance/, the application must include assurances that:

A. The legislature of the state was consulted with respect to the development of the application.

B. The application was approved by the Governor, the eligible agency for adult education (as defined in section 203(4) of WIA (20 U.S.C. 9202(4))), and the state agency responsible for vocational and technical education programs (as defined in section 3(9) of Perkins Act (20 U.S.C. 2302(9)).

C. The state and the eligible agency, as appropriate, exceeded the state adjusted levels of performance for WIA title I, the state adjusted levels of performance for the AEFLA, and the performance levels established for Perkins Act programs.

In addition, states are requested to provide a description of the planned use of incentive grants as part of the application process, to ensure that the state's planned activities are innovative and are otherwise authorized under the WIA title I, the AEFLA, and/or the Perkins Act as amended, as required by WIA section 503(a). TEGL No. 20-01, Change 4 provides the specific application process that states must follow to apply for these funds.

The applications may take the form of a letter from the Governor, or designee, to the Assistant Secretary of Labor, Emily Stover DeRocco, Attention: Karen A. Staha, 200 Constitution Avenue, NW., Room S-5206, Washington, DC 20210. In order to expedite the application process, states are encouraged to submit their applications electronically to Karen Staha at staha.karen@dol.gov. The incentive grants will be awarded by June 30, 2006.

Signed at Washington, DC, this 21st day of April, 2006.
Emily Stover DeRocco,
Assistant Secretary for Employment and Training.

Appendix
[States with an asterisk exceeded performance levels for AEFLA, Perkins Act, and WIA Title 1B.]
State | PY 2004-05 exceeded state performance levels: WIA (Title I) | PY 2004-05 exceeded state performance levels: AEFLA (Adult Education) | PY 2004-05 exceeded state performance levels: Perkins Act (Vocational Education) | PY 2004-05 exceeded state performance levels: WIA Title I; AEFLA; Perkins Act
Alabama | X | X |
Alaska |  | X | X
Arizona* | X | X | X | X
Arkansas |  | X |
California |  |  | X
Colorado* | X | X | X | X
Connecticut* | X | X | X | X
District of Columbia |  | X | X
Delaware* | X | X | X | X
Florida | X |  | X
Georgia* | X | X | X | X
Hawaii |  |  | X
Idaho |  | X | X
Illinois* | X | X | X | X
Indiana* | X | X | X | X
Iowa* | X | X | X | X
Kansas |  | X | X
Kentucky* | X | X | X | X
Louisiana |  | X | X
Maine |  |  | X
Maryland* | X | X | X | X
Massachusetts* | X | X | X | X
Michigan* | X | X | X | X
Minnesota* | X | X | X | X
Mississippi |  |  | X
Missouri |  | X | X
Montana |  | X | X
Nebraska* | X | X | X | X
Nevada* | X | X | X | X
New Hampshire |  | X | X
New Jersey |  |  | X
New Mexico | X
New York | X |  | X
North Carolina |  |  | X
North Dakota* | X | X | X | X
Ohio |  | X | X
Oklahoma* | X | X | X | X
Oregon* | X | X | X | X
Pennsylvania* | X | X | X | X
Puerto Rico |  |  | X
Rhode Island |  |  | X
South Carolina* | X | X | X | X
South Dakota |  | X
Tennessee* | X | X | X | X
Texas | X |  | X
Utah |  |  | X
Vermont |  |  | X
Virginia |  | X | X
Washington | X |  | X
West Virginia* | X | X | X | X
Wisconsin* | X | X | X | X
Wyoming |  | X | X
States with an asterisk exceeded performance levels for AEFLA, Perkins Act, and WIA Title 1B.

1

[FR Doc. E6-6399 Filed 4-27-06; 8:45 am]

BILLING CODE 4510-30-P